EXPORT-IMPORT BANK

Sunshine Act Meetings

Notice of Open Meeting of the Advisory Committee of the Export-Import Bank of the United States (EXIM).

TIME AND DATE: Wednesday, October 18 from 4:00-4:30 p.m. EDT. A joint meeting of the EXIM Advisory Committee, Sub-Saharan Africa Advisory Committee, and EXIM Advisory Councils will be held from 4:00-4:30 p.m. EDT.

PLACE: The Washington Hilton Hotel, 1919 Connecticut Ave. NW, Washington, DC 20009 and Virtual. The meeting will be held in person for committee members, EXIM's Board of Directors and support staff, and virtually for all other participants.

REGISTRATION AND PUBLIC COMMENT: Virtual Public Participation: The meeting will be open to public participation virtually and time will be allotted for questions or comments submitted online. Members of the public may also file written statements before or after the meeting to advisory@exim.gov.

Interested parties may register for the meeting at: https://events.teams.microsoft.com/event/5a102c27-d9ae-490d-a143-db0c4412029a@b953013c-c791-4d32-996f-518390854527.

MATTERS TO BE CONSIDERED: Discussion of EXIM policies and programs to provide competitive financing to expand United States exports and comments for inclusion in EXIM's Report to the U.S. Congress on Global Export Credit Competition.

CONTACT PERSON FOR MORE INFORMATION: For further information, contact India Walker, External Engagement Specialist, at 202-480-0062 or india.walker@exim.gov.

Joyce B. Stone,
Assistant Corporate Secretary.

[FR Doc. 2023-22457 Filed 10-5-23; 11:15 am]

BILLING CODE 6690-01-P